DEPARTMENT OF DEFENSE

Office of the Secretary

Meeting of the Defense Advisory Committee on Women in the Services (DACOWITS)

AGENCY: Department of Defense.

ACTION: Notice.

SUMMARY: Pursuant to the Federal Advisory Committee Act of 1972 (5 U.S.C. Appendix, as amended), the Government in the Sunshine Act of 1976 (5 U.S.C. 552b), and Section 10(a), Public Law 92-463, as amended, notice is hereby given of a forthcoming meeting of the Defense Advisory Committee on Women in the Services (DACOWITS). The purpose of the meeting is to receive briefings and updates relating to the Committee's current work. The Committee will receive briefings on the Marine Corps Infantry Officer Course, commissioning sources related to representation of women, and an update on the Women in Services Review. The Committee will receive a briefing summarizing their installation visits. Additionally, the Committee will receive an update from the Sexual Assault and Response Office, a briefing on the Military Justice System, and a briefing on the 2011 Health Related Behavior Survey results. Pursuant to 5 U.S.C. 552b and 41 CFR 102-3.140 through 102-3.165, this meeting is open to the public, subject to the availability of space.

DATES: Thursday, June 20, 2013, from 8:30 a.m. to 3:00 p.m.; Friday, June 21, 2013, from 8:30 a.m. to 2:45 p.m.

ADDRESSES: Sheraton National Hotel-Pentagon City, 900 South Orme St., Arlington, VA 22204.

FOR FURTHER INFORMATION CONTACT: Mr. Robert Bowling or DACOWITS Staff at 4000 Defense Pentagon, Room 5A734, Washington, DC 20301-4000. Robert.bowling@osd.mil. Telephone (703) 697-2122. Fax (703) 614-6233.

SUPPLEMENTARY INFORMATION: Pursuant to 41 CFR 102-3.105(j) and 102-3.140, and section 10(a)(3) of the Federal Advisory Committee Act of 1972, interested persons may submit a written statement for consideration by the Defense Advisory Committee on Women in the Services. Individuals submitting a written statement must submit their statement to the Point of Contact listed at the address in FOR FURTHER INFORMATION CONTACT no later than 5:00 p.m., Tuesday, June 18, 2013. If a written statement is not received by Tuesday, June 18, 2013, prior to the meeting, which is the subject of this notice, then it may not be provided to or considered by the Defense Advisory Committee on Women in the Services until its next open meeting. The Designated Federal Officer will review all timely submissions with the Defense Advisory Committee on Women in the Services Chairperson and ensure they are provided to the members of the Defense Advisory Committee on Women in the Services. If members of the public are interested in making an oral statement, a written statement should be submitted. After reviewing the written comments, the Chairperson and the Designated Federal Officer will determine who of the requesting persons will be able to make an oral presentation of their issue during an open portion of this meeting or at a future meeting. Pursuant to 41 CFR 102-3.140(d), determination of who will be making an oral presentation is at the sole discretion of the Committee Chair and the Designated Federal Officer and will depend on time available and if the topics are relevant to the Committee's activities. Two minutes will be allotted to persons desiring to make an oral presentation. Oral presentations by members of the public will be permitted only on Friday, June 21, 2013 from 2:00 p.m. to 2:30 p.m. in front of the full Committee. The number of oral presentations to be made will depend on the number of requests received from members of the public.

Meeting agenda:

Thursday, June 20, 2013, 8:30 a.m.-3:00 p.m.

—Welcome, Introductions, Announcements

—Briefing—Request for Information Update

—Briefing—Marine Corps Infantry Officer Course

—Briefing—Commissioning Sources

—Briefing—Women in Services Review Update

—Briefing—Summary of Installation Visits

Friday, June 21, 2013, 8:30 a.m.-2:45 p.m.

—Announcements

—Briefing—Sexual Assault Prevention and Response Office Update

—Briefing—Military Justice System

—Briefing—2011 Health Related Behaviors Survey Results

—Public Comment Period

Dated: June 3, 2013.
Aaron Siegel,
Alternate OSD Federal Register Liaison Officer, Department of Defense.

[FR Doc. 2013-13407 Filed 6-5-13; 8:45 am]

BILLING CODE 5001-06-P